DEPARTMENT OF DEFENSE

GENERAL SERVICES ADMINISTRATION

NATIONAL AERONAUTICS AND SPACE ADMINISTRATION

[OMB Control No. 9000-0169; Docket 2013-0077; Sequence 7]

Federal Acquisition Regulation; Information Collection; American Recovery and Reinvestment Act-Reporting Requirements—Quarterly Reporting for Prime Contractors

AGENCY: Department of Defense (DOD), General Services Administration (GSA), and National Aeronautics and Space Administration (NASA).

ACTION: Notice of request for comments regarding an extension, with changes, to an existing OMB clearance.

SUMMARY: Under the provisions of the Paperwork Reduction Act, the Regulatory Secretariat, will be submitting to the Office of Management and Budget (OMB) a request to review and approve an extension of a previously approved information collection requirement concerning the American Recovery and Reinvestment Act—Quarterly Reporting for Prime Contractors.

DATES: Submit comments on or before November 4, 2013.

ADDRESSES: Submit comments identified by Information Collection 9000-0169, American Recovery and Reinvestment Act—Quarterly Reporting for Prime Contractors, by any of the following methods:

• Regulations.gov: http://www.regulations.gov. Submit comments via the Federal eRulemaking portal by searching the OMB control number. Select the link “Submit a Comment” that corresponds with “Information Collection 9000-0169, American Recovery and Reinvestment Act—Quarterly Reporting for Prime Contractors.” Follow the instructions provided at the “Submit a Comment” screen. Please include your name, company name (if any), and “Information Collection 9000-0169, American Recovery and Reinvestment Act—Quarterly Reporting for Prime Contractors” on your attached document.

• Fax: 202-501-4067.

• Mail: General Services Administration, Regulatory Secretariat (MVCB), 1800 F Street NW., Washington, DC 20405. ATTN: Hada Flowers/IC 9000-0169, American Recovery and Reinvestment Act—Quarterly Reporting for Prime Contractors.

Instructions: Please submit comments only and cite Information Collection 9000-0169, American Recovery and Reinvestment Act—Quarterly Reporting for Prime Contractors, in all correspondence related to this collection. All comments received will be posted without change to http://www.regulations.gov, including any personal and/or business confidential information provided.

FOR FURTHER INFORMATION CONTACT: Mr. Curtis E. Glover, Sr., Procurement Analyst, Office of Acquisition Policy, at telephone 202-501-1448 or via email to Curtis.glover@gsa.gov.

SUPPLEMENTARY INFORMATION:

A. Purpose

In accordance with Federal Acquisition Regulation (FAR) subpart 4.15 and the applicable clause at FAR 52.204-11, which implements the statutory requirements section 1512(c) of Division A of the American Recovery and Reinvestment Act of 2009 (Pub. L. 111-5) (Recovery Act), as a condition of receipt of funds, contractors that receive awards (or modifications to existing awards) funded, in whole or in part by the Recovery Act, shall report quarterly on the use of the funds. Elements updated quarterly for which the burden is imposed by the FAR requirements on the prime contractor include the following:

a. The amount of Recovery Act funds invoiced by the contractor, cumulative since the beginning of the contract;

b. A list of all significant services performed or supplies delivered, including construction, for which the contractor has invoiced;

c. An assessment of the contractor's progress towards the completion of the overall purpose and expected outcomes or results of the contract (i.e., not started, less than 50 percent completed, completed 50 percent or more, or fully completed). This covers the contract (or portion thereof) funded by the Recovery Act;

d. A narrative description of the employment impact of the Recovery Act funded work; and

e. For subcontracts valued at less than $25,000 or any subcontracts awarded to an individual, or subcontracts awarded to a subcontractor that in the previous tax year had gross income under $300,000, the contractor shall only report the aggregate number of such first tier subcontracts awarded in the quarter and their aggregate total dollar amount.

B. Annual Reporting Burden

This information collection reflects a downward adjustment from what was published in the Federal Register on September 24, 2010, at 75 FR 58388, for the number of respondents required to comply with the requirements of FAR subpart 4.15 and the associated FAR clause at 52.204-11, American Recovery and Reinvestment Act—Reporting Requirements. This change is primarily due to fewer Recovery Act funds available for award.

In Fiscal Year (FY) 2010, Federal Procurement Data System (FPDS) indicates that there were 33,041 Recovery Act prime contract awards, including modifications (21,767 awarded to small businesses), to 8,896 unique vendors. In FY 2012, FPDS indicates that there were 6,312 Recovery Act prime contract awards, including modifications (3,156 awarded to small businesses), to 2,247 unique vendors. This change represents an approximately 75 percent decrease in the number of unique vendors from FY 2010. Consequently, it was determined that FY 2012 FPDS data was a sufficient baseline for estimating the number of respondents per year (2,247) that would need to comply with the applicable clause associated with this information collection. The estimate number of responses per respondent is based on an estimated average of the number of respondents divided by the estimated number of unique vendors. In discussions with subject matter experts, it was determined that an estimated number of responses per respondent of two, rounded down from 2.8, was sufficient to reflect the lower number of Recovery Act funds available for award. Additionally, it is estimated that the burden hours per response is four hours (4.0), which reflects no change from what was published Federal Register on September 24, 2010, at 75 FR 58388. No public comments were received in prior years that have challenged the validity of the Government's estimate.

Respondents: 2,247.

Responses per Respondent: 2.0.

Total Annual Reponses: 4,494.

Hours per Response: 4.0

Total Burden Hours: 17,976.

C. Public Comments

Public comments are particularly invited on: Whether this collection of information is necessary for the proper performance of functions of the Federal Acquisition Regulations (FAR), and whether it will have practical utility; whether our estimate of the public burden of this collection of information is accurate, and based on valid assumptions and methodology; ways to enhance the quality, utility, and clarity of the information to be collected; and ways in which we can minimize the burden of the collection of information on those who are to respond, through the use of appropriate technological collection techniques or other forms of information technology.

Obtaining Copies of Proposals: Requesters may obtain a copy of the information collection documents from the General Services Administration, Regulatory Secretariat (MVCB), 1800 F Street NW., Washington, DC 20405, telephone 202-501-4755. Please cite OMB Control No. 9000-0169, American Recovery and Reinvestment Act-Reporting Requirements—Quarterly Reporting for Prime Contractors, in all correspondence.

Dated: August 28, 2013.
Karlos Morgan,
Acting Director, Federal Acquisition Policy Division, Office of Government-wide Acquisition Policy, Office of Acquisition Policy, Office of Government-wide Policy.

[FR Doc. 2013-21350 Filed 8-30-13; 8:45 am]

BILLING CODE 6820-EP-P